SECURITIES AND EXCHANGE COMMISSION

[File No. 500-1]

Life Stem Genetics Inc.; Order of Suspension of Trading

November 25, 2013.

It appears to the Securities and Exchange Commission that there is a lack of current and accurate information concerning the securities of Life Stem Genetics Inc. because of questions regarding the accuracy of assertions by the company, and by others, including in press releases to investors concerning, among other things, the company's operations.

The Commission is of the opinion that the public interest and the protection of investors require a suspension of trading in the securities of the above-listed company.

Therefore, it is ordered, pursuant to Section 12(k) of the Securities Exchange Act of 1934, that trading in the securities of the above-listed company is suspended for the period from 9:30 a.m. EST, on November 25, 2013 through 11:59 p.m. EST, on December 9, 2013.

By the Commission.
Jill M. Peterson,
Assistant Secretary.

[FR Doc. 2013-28607 Filed 11-25-13; 11:15 am]

BILLING CODE 8011-01-P